DEPARTMENT OF HOMELAND SECURITY

Federal Emergency Management Agency

[Docket ID: FEMA-2007-0008]

National Advisory Council

AGENCY: Federal Emergency Management Agency, DHS.

ACTION: Committee Management; Request for Applicants for Appointment to the National Advisory Council.

SUMMARY: The Federal Emergency Management Agency (FEMA) is requesting individuals who are interested in serving on the National Advisory Council (NAC) to apply for appointment. As provided for in the Department of Homeland Security Appropriations Act of 2007, the Secretary of Homeland Security established the NAC to ensure effective and ongoing coordination of Federal preparedness, protection, response, recovery, and mitigation for natural disasters, acts of terrorism, and other man-made disasters.

DATES: Applications for membership should reach FEMA at the address below on or before 5 p.m. e.s.t., on Friday, March 6, 2009.

ADDRESSES: If you wish to apply for membership, your application should be submitted by:

• E-mail: FEMA-NAC@dhs.gov

• Fax: (202) 646-4176

• Mail: Federal Emergency Management Agency, Office of the National Advisory Council, 500 C Street, SW., Room 718, Washington, DC 20472.

FOR FURTHER INFORMATION CONTACT: The Designated Federal Officer, Alyson Price, Office of the National Advisory Council, telephone 202-646-3746; e-mail FEMA-NAC@dhs.gov. FEMA Ethics Office, Ebbonie Taylor, telephone 202-646-3664; e-mail ebbonie.taylor@dhs.gov and Paul Conrad, telephone 202-646-4025; e-mail paul.conrad1@dhs.gov.

SUPPLEMENTARY INFORMATION: The National Advisory Council (NAC) is an advisory committee established in accordance with the provisions of section 14(a)(2) of the Federal Advisory Committee Act (FACA) 5 U.S.C. App. (Pub. L. 92-463) and section 508 of the Homeland Security Act of 2002 (Pub. L. 107-296), as amended by section 611 of the Post-Katrina Emergency Management Reform Act of 2006, as set forth in the Department of Homeland Security Appropriations Act of 2007 (Pub. L. 109-295), directed the Secretary of Homeland Security to establish the NAC to ensure effective and ongoing coordination of Federal preparedness, protection, response, recovery, and mitigation for natural disasters, acts of terrorism, and other man-made disasters.

The NAC consists of 35 members, representing certain stakeholder groups and some providing their personal expertise in FEMA related issues. Approximately one-third of the membership was appointed for a 2 year term expiring on June 15, 2009. Accordingly, the following discipline areas will be open for applications and nominations at this time: Emergency Management, Emergency Response (two representative positions total), In-Patient Medical Provider (Special Government Employee (SGE) appointment), Cyber Security (SGE appointment), State Elected Official (representative appointment), Local Elected Official (representative appointment), Homeland Security Advisory Council (Ex Officio appointment), and three appointments (either representative or SGE), which will be selected at the discretion of the FEMA Administrator. In addition to these new appointments whose terms will end on June 15, 2012, FEMA seeks applications to fill the remaining term of the Disability representative position, which ends on June 15, 2011, as the current representative will be retiring in May 2009.

There are specific membership types associated with the indicated disciplines open for new appointments at this time. Some members are appointed as SGEs as defined in section 202(a) of title 18, United States Code. These members are subject to Federal ethics laws and regulations and are required to complete a Confidential Financial Disclosure Report (OGE Form 450). Specifically, the following two discipline area vacancies will be filled by SGE appointments: In-Patient Medical Provider and Cyber Security. OGE Form 450s or the information contained therein may not be released to the public except under an order issued by a Federal court or as otherwise provided under the Privacy Act (5 U.S.C. 552a). Applicants can obtain this form by going to the Web site of the Office of Government Ethics (http://www.oge.gov), or by contacting the National Advisory Council Program Office, or by contacting the FEMA Ethics Office. This information is provided in the FOR FURTHER INFORMATION CONTACT caption. Additionally, the Homeland Security Advisory Council position will be filled by a current member of the Homeland Security Advisory Council. All other discipline areas including: Emergency Management, Emergency Response, State Elected Official, Local Elected Official, Disability, and the three positions selected by the FEMA Administrator.

Qualified individuals interested in serving on the NAC are invited to apply for appointment. All ethnicities and genders are encouraged to apply.

The NAC assists FEMA in carrying out its missions by providing advice and recommendations in the development and revision of the national preparedness guidelines, the national preparedness system, the National Incident Management System, the National Response Framework, and other related plans and strategies. The members of the NAC are appointed by the Administrator of FEMA and are composed of Federal, State, local, tribal, and private-sector leaders and subject matter experts in law enforcement, fire, emergency medical services, hospital, public works, emergency management, State and local governments, public health, emergency response, standard setting and accrediting organizations, representatives of individuals with disabilities and other special needs, infrastructure protection, cyber security, communications, and homeland security communities.

Qualified individuals interested in serving on the NAC are invited to apply for appointment by submitting a resume or Curriculum Vitae (CV) along with letters of recommendation to the NAC's Designated Federal Officer. Applicants should state for which discipline area or areas they are applying. Current NAC members whose terms are ending should notify the Designated Federal Officer of their interest in reappointment in lieu of submitting a new application, and should provide an updated resume or CV and letters of recommendation for consideration. The NAC meets in a plenary session approximately once per quarter. With respect to quarterly meetings, the NAC also holds at least one teleconference meeting with public call-in lines. Members serve without compensation from the Federal Government; however, consistent with the charter, they do receive travel reimbursement and per diem under applicable Federal travel regulations. In support of the policy of the Department of Homeland Security on gender and ethnic diversity, qualified women and minorities are encouraged to apply for membership.

Dated: January 29, 2009.
Nancy Ward,
Acting Administrator, Federal Emergency Management Agency.

[FR Doc. E9-2295 Filed 2-3-09; 8:45 am]

BILLING CODE 9111-48-P